DEPARTMENT OF COMMERCE

Foreign-Trade Zones Board

[Order No. 1944]

Reorganization and Expansion of Foreign-Trade Zone 57; Under Alternative Site Framework; Charlotte, North Carolina

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Charlotte Regional Partnership, Inc., grantee of Foreign-Trade Zone 57, submitted an application to the Board (FTZ Docket B-12-2014, docketed 02-07-2014) for authority to reorganize and expand under the ASF with a service area consisting of the Counties of Alexander, Anson, Caldwell, Cabarrus, Catawba, Cleveland, Gaston, Iredell, Lincoln, Mecklenburg, Polk, Rowan, Rutherford, Stanly, and Union, within and adjacent to the Charlotte Customs and Border Protection port of entry, to combine Sites 1 and 1a as Site 1 and expand the site to include 2.769 additional acres, to remove Sites 2 and 3, to modify Site 7 by removing Parcel 1, and to add a new site (Site 17). FTZ 57's modified Sites 1 and 7 would become usage-driven sites and existing Site 16 and new Site 17 would be categorized as magnet sites;

Whereas, notice inviting public comment was given in the Federal Register (79 FR 8434-8435, 02-12-2014) and the application has been processed pursuant to the FTZ Act and the Board's regulations; and,

Whereas, the Board adopts the findings and recommendation of the examiner's report, and finds that the requirements of the FTZ Act and the Board's regulations are satisfied;

Now, therefore, the Board hereby orders:

The application to reorganize and expand FTZ 57 under the ASF is approved, subject to the FTZ Act and the Board's regulations, including Section 400.13, to the Board's standard 2,000-acre activation limit for the zone, to a five-year ASF sunset provision for magnet sites that would terminate authority for Site 16 if not activated by July 31, 2019, and to a three-year ASF sunset provision for usage-driven sites that would terminate authority for Sites 1 and 7 if no foreign-status merchandise is admitted for a bona fide customs purpose by July 31, 2017.

Signed at Washington, DC, this 17th day of July 2014.
Paul Piquado,
Assistant Secretary of Commerce for Enforcement and Compliance, Alternate Chairman, Foreign-Trade Zones Board.

[FR Doc. 2014-18065 Filed 7-30-14; 8:45 am]

BILLING CODE 3510-DS-P